CONSUMER PRODUCT SAFETY COMMISSION

Sunshine Act Meeting

TIME AND DATE: Wednesday, May 9, 2024—9 a.m.

PLACE: Meeting will be held remotely.

STATUS: Commission Meeting—Closed to the Public

MATTERS TO BE CONSIDERED: Meeting Matter: Briefing Matter.

CONTACT PERSON FOR MORE INFORMATION: Alberta E. Mills, Office of the Secretary, U.S. Consumer Product Safety Commission, 4330 East West Highway, Bethesda, MD 20814, 301-504-7479 (Office) or 240-863-8938 (Cell).

Dated: May 8, 2024.
Alberta Mills,
Commission Secretary.

[FR Doc. 2024-10479 Filed 5-9-24; 11:15 am]

BILLING CODE 6355-01-P